DEPARTMENT OF JUSTICE

[OMB Number 1140-0005]

Agency Information Collection Activities; Proposed eCollection eComments Requested; Application/Permit To Import Firearms, Ammunition, and Defense Articles—ATF Form 5330.3A (Form 6, Part I)

AGENCY: Bureau of Alcohol, Tobacco, Firearms, and Explosives; Department of Justice.

ACTION: 30-Day notice.

SUMMARY: The Department of Justice (DOJ), Bureau of Alcohol, Tobacco, Firearms, and Explosives (ATF), will be submitting the following information collection request to the Office of Management and Budget (OMB) for review and approval in accordance with the Paperwork Reduction Act of 1995.

DATES: ATF encourages comments on this information collection. You may submit written comments for 30 days, until midnight on March 23, 2026.

ADDRESSES: Submit written comments and recommendations for this information collection to the following website: www.reginfo.gov/public/do/PRAMain. Find this particular information collection by selecting “Currently under 30-day Review—Open for Public Comments” or by using the search function and entering either the title of the information collection or the OMB control number: 1140-0005.

FOR FURTHER INFORMATION CONTACT: If you have questions, or need a copy of the proposed information collection instrument with instructions or additional information, please contact: Justine Hall, Firearms and Explosives Imports Branch, either by mail at 244 Needy Road, Martinsburg, WV 25405, by email at Justine.hall@atf.gov, or by telephone at 304-616-4593.

SUPPLEMENTARY INFORMATION: The proposed information collection was previously published in the Federal Register, 90 FR 37568, on Tuesday, August 5, 2025, allowing a 60-day comment period. We encourage written comments and suggestions from the public and affected agencies concerning the proposed information collection. Your comments should address one or more of the following four points:

—Evaluate whether the proposed information collection is necessary to properly perform the identified functions of the Bureau, including whether the information will have practical utility;

—Evaluate the accuracy of the agency's estimate of the proposed information collection's burden, including the validity of the methodology and assumptions used;

—Evaluate whether, and if so how, the agency can enhance the quality, utility, and clarity of the information being collected; and

—Minimize the information collection's burden on those who are to respond, including through the use of appropriate automated, electronic, mechanical, or other technological collection techniques or other forms of information technology, e.g., permitting responses to be submitted electronically.

You may view this information collection request at www.reginfo.gov. Follow the instructions to view Department of Justice information collections currently under review by OMB and look for 1140-0005.

DOJ seeks PRA authorization for this information collection for three years. OMB authorization for an ICR cannot be for more than three years without renewal. DOJ notes that information collection requirements submitted to OMB for existing ICRs receive a month-to-month extension while they undergo review.

Overview of This Information Collection:

1. Type of information collection: revising a previously approved collection.

2. Title of the form/collection: Application/Permit to Import Firearms, Ammunition, and Defense Articles.

3. Agency form number, if any, and the applicable component of the Department of Justice sponsoring the collection:

Form number: ATF Form 5330.3A (Form 6, part I).

Component: Bureau of Alcohol, Tobacco, Firearms, and Explosives; U.S. Department of Justice.

4. Affected public who will be asked or required to respond, as well as a brief abstract:

Affected public: individuals or households, federal, state, local, and tribal governments, and private sector-for-profit institutions.

Abstract: The Gun Control Act and other statutes prohibit persons from importing firearms, ammunition, and defense articles into the US unless the articles meet certain criteria, the importer is not a prohibited person, and the Attorney General (delegated to Director, ATF) approves that person to import those items. ATF uses this form to collect the information necessary to determine the above facts and approve a person to import the articles; the form then serves as their permit to do so.

5. Obligation to respond: required to obtain or retain a benefit.

6. Total estimated number of respondents: 13,777 respondents.

7. Estimated time per respondent: 30 minutes (0.5 hours).

8. Frequency: Once annually.

9. Total estimated annual time burden: 3,869 total hours.

10. Total estimated annual other costs burden: $1,241 in mailing costs for the portion who choose to mail instead of submitting electronically.

Revisions to This Information Collection

Information Collection (IC) OMB 1140-0005 is being revised to reflect an increase in the number of persons who submit requests to import, from 10,000 three years ago to 13,777 in 2025, an increase of 3,777 requests annually. In addition, the collection has been revised to reflect a change in the amount of time it takes to complete and submit the information, due to technological developments. More than 90 percent of respondents now respond via ATF's online eForms system, cutting out the time involved in completing and mailing paper forms. As a result of these combined changes, the information collection has been revised to reflect a decrease in the total annual hourly burden, from 5,000 hours three years ago to 3,869 in 2025, a decrease of 1,131 hours. In addition, ATF is including monetized value of this time due to recent OMB changes and has also made small revisions to the title to make it easier to read.

Public Comments

ATF did not receive comments on this information collection during the 60-day notice and comment period.

If you need additional information, contact: Darwin Arceo, Department Clearance Officer, Enterprise Portfolio Management, Justice Management Division; United States Department of Justice; Two Constitution Square, 145 N Street NE, 4W-218 Washington, DC 20530.

Dated: February 18, 2026.
Darwin Arceo,
Department Clearance Officer for PRA, U.S. Department of Justice.

[FR Doc. 2026-03393 Filed 2-19-26; 8:45 am]

BILLING CODE 4410-FY-P